DEPARTMENT OF HOMELAND SECURITY

U.S. Customs and Border Protection

19 CFR Part 192

[CBP Dec. No. 08-20]

Mandatory Pre-Departure Filing of Export Cargo Information Through the Automated Export System

AGENCY: Customs and Border Protection, Department of Homeland Security.

ACTION: General notice of compliance.

SUMMARY: This notice informs the public of the date when U.S. Customs and Border Protection (CBP) will require compliance with its regulations pertaining to the mandatory, pre-departure electronic filing of export information through the Automated Export System (AES). CBP regulations at 19 CFR 192.14 setting forth requirements for the advance electronic filing of export information by vessel, air, truck, and rail carriers provide a compliance date contingent upon the redesign of CBP's AES commodity module and the effective date of Department of Commerce (DOC) regulations pertaining to mandatory electronic filing of export information. Since the redesign of the AES commodity module is complete, and the DOC regulations were published as a final rule on June 2, 2008, with an effective date of July 2, 2008, and an implementation date of September 30, 2008, the CBP regulations must be complied with starting September 30, 2008.

DATES: The compliance date for the CBP regulations pertaining to the mandatory, pre-departure electronic filing of export cargo information through the AES (19 CFR 192.14) is September 30, 2008.

FOR FURTHER INFORMATION CONTACT: Gregory Olsavsky, Director, Cargo Control Division, Office of Field Operations, 202-344-1049.

SUPPLEMENTARY INFORMATION: On December 5, 2003, CBP published a final rule in the Federal Register (68 FR 68140) amending the CBP regulations pertaining to the filing of export cargo information through the AES (19 CFR, Part 192, Subpart B). Specifically, the final rule added new § 192.14 to require (with a provision for exceptions) that vessel, air, truck, and rail carriers electronically file export cargo information through a CBP-approved electronic data interchange system (then and still the AES) and that such filing occur prior to departure from the United States for vessel and air carriers (24 hours for vessel carriers, two hours prior to scheduled departure time for air carriers) and prior to arrival at the border for truck and rail carriers (one hour for truck carriers, two hours for rail carriers). (The actual filing responsibility is imposed on the U.S. principal party in interest (USPPI), or its agent, representing the carrier.) These regulations were published pursuant to section 343(a) of the Trade Act of 2002, as amended by the Maritime Security Act (19 U.S.C. 2071 note). (See the published rule for a further discussion of these provisions and their underlying authorities.)

Under the 2003 CBP final rule (specifically, § 192.14(e)), the requirements of these regulations were set to be implemented upon the completion of the redesign of CBP's AES commodity module and the effective date of DOC regulations pertaining to mandatory electronic filing of export cargo information. The redesign of the AES is complete, and the DOC has recently published its regulations.

On June 2, 2008, the Bureau of the Census (U.S. Census Bureau or Census Bureau), DOC, published a final rule in the Federal Register (73 FR 31548) amending its Foreign Trade regulations to implement provisions of the Foreign Relations Authorization Act (FRA Act). Under the FRA Act, the Secretary of Commerce, with the concurrence of the Secretary of State and the Secretary of Homeland Security, is authorized to publish regulations mandating that all persons required to file export information via a Shippers Export Declaration (SED) under chapter 9 of title 13, United States Code (13 U.S.C.) do so through the AES. Thus, under the final rule, the Census Bureau is requiring mandatory filing of export cargo information through CBP's AES (or through AESDirect, the Census Bureau's free Internet-based system) for all shipments: Vessel, aircraft, truck, and rail. (See the published rule for a further discussion of these provisions and their underlying authorities.) The publication of these DOC regulations and the effective date set forth in those DOC regulations trigger the effectiveness of the CBP regulations.

The effective date of the Census Bureau final rule is July 2, 2008, but the Census Bureau will not commence implementation of the final rule's provisions until September 30, 2008. Accordingly, the compliance date for the CBP regulations pertaining to pre-departure electronic filing (through AES) of export cargo information, pursuant to 19 CFR 192.14(e), is the implementation date of the DOC final rule, September 30, 2008. After September 30, 2008, CBP will publish a technical amendment to the CFR amending § 192.14 to reflect the compliance date.

Dated: June 2, 2008.
Jayson P. Ahern,
Acting Commissioner, Customs and Border Protection.

[FR Doc. E8-12627 Filed 6-6-08; 8:45 am]

BILLING CODE 9111-14-P